DEPARTMENT OF THE INTERIOR

National Park Service

Lower St. Croix National Scenic Riverway, MN and WI, Environmental Impact Statement

AGENCIES: National Park Service, Minnesota Department of Natural Resources, Wisconsin Department of Natural Resources.

ACTION: Notice of extension of the no action period for the final cooperative management plan/final environmental impact statement for the Lower St. Croix National Scenic Riverway, Minnesota and Wisconsin.

SUMMARY: Pursuant to section 102(2) of the National Environmental Policy Act of 1969, the National Park Service, Minnesota Department of Natural Resources, and Wisconsin Department of Natural Resources (collectively, the “managing agencies”) have prepared a final cooperative management plan/final environmental impact statement (FCMP/FEIS) for the Lower St. Croix National Scenic Riverway. The Environmental Protection Agency published a notice of availability for this document in the October 20, 2000 Federal Register (65 FR 63076). The notice stated that the required 30-day no action period for the proposal would end on November 20, 2000.

The managing agencies listed above have elected to delay signing a record of decision on this project, and to extend the no action period until January 31, 2001. No decision will be made about the proposal until after this date; the agencies will not undertake actions to implement any portion of this plan until after this date.

The decision to extend the no action period was made because (a) the managing agencies and the U.S. Fish and Wildlife Service have elected to reinitiate consultation on the project pursuant to section 7 of the Endangered Species Act, (b) CD-ROM versions of the document were not available until mid-November, possibly precluding some persons from reviewing the document, and (c) the cover sheet in the FCMP/FEIS listed an incorrect post office box where comments may be sent. The correct address for comments is printed below.

DATES: The no-action period on this FEIS will now expire January 31, 2001.

ADDRESSES: Copies of the FCMP/FEIS are available by request by writing the Superintendent, Lower St. Croix National Scenic Riverway, P.O. Box 708, St. Croix Falls, WI 54024-0708. Comments also may be sent to this address. Copies of the FCMP/FEIS also may be requested by telephone at 715-483-3284, extension 625 or by e-mail from SACN_Superintendent@nps.gov. The document can be picked-up in person at the Lower St. Croix National Scenic Riverway headquarters at 401 Hamilton Street North, St. Croix Falls, WI.

FOR FURTHER INFORMATION CONTACT: Superintendent, Lower St. Croix National Scenic Riverway at the address and telephone listed above.

SUPPLEMENTARY INFORMATION: The Lower St. Croix National Scenic Riverway is a narrow corridor that runs for 52 miles along the boundary of Minnesota and Wisconsin, from St. Croix Falls/Taylors Falls to the confluence with the Mississippi River at Prescott/Point Douglas. The National Park Service manages a portion of the upper 27 miles of lands and waters of this corridor. The states of Minnesota and Wisconsin administer the lower 25 miles. The states and the federal government jointly conduct planning for the riverway.

The purpose of the cooperative management plan is to set forth the basic management philosophy for the riverway and to provide the strategies for addressing issues and achieving identified management objectives. The FCMP/FEIS describes and analyzes the environmental impacts of a proposed action and four action alternatives for the future management direction of the riverway. The FCMP/FEIS also evaluates a preferred management structure and two management structure options for the riverway. No action alternatives are evaluated for both management direction and management structure.

The responsible officials are Mr. William Schenk, Midwest Regional Director, National Park Service; Mr. Allen Garber, Commissioner, Minnesota Department of Natural Resources; and Mr. George Meyer, Secretary, Wisconsin Department of Natural Resources.

Dated: November 17, 2000.
William W. Schenk,
Regional Director, Midwest Region.

[FR Doc. 00-30149 Filed 11-24-00; 8:45 am]

BILLING CODE 4310-70-P